DEPARTMENT OF DEFENSE

Office of the Secretary

[Transmittal No. 25-0F]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0F.

Dated: January 12, 2026.
Stephanie J. Bost,
Alternate OSD Federal Register Liaison Officer, Department of Defense.

BILLING CODE 6001-FR-P

BILLING CODE 6001-FR-C

Transmittal No. 25-0F

REPORT OF ENHANCEMENT OR UPGRADE OF SENSITIVITY OF TECHNOLOGY OR CAPABILITY (SEC. 36(B)(5)(C), AECA)

(i) Purchaser: Government of Finland

(ii) Sec. 36(b)(1), AECA Transmittal No.: 20-66

Date: October 9, 2020

Military Department: Air Force

(iii) Description: On October 9, 2020, Congress was notified by congressional certification transmittal number 20-66 of the possible sale, under Section 36(b)(1) of the Arms Export Control Act, of sixty-four (64) F-35 Joint Strike Fighter CTOL aircraft; sixty-six (66) Pratt & Whitney F-135 engines (64 installed and 2 spares); five hundred (500) GBU-53/B Small Diameter Bomb II (SDB II) All-Up Round (AUR); twelve (12) GBU-53/B SDB II Guided Test Vehicles (GTV); twelve (12) GBU-53/B SDB II Captive Carry Vehicles (CCV); one hundred fifty (150) Sidewinder AIM-9X Block II+ (Plus) Tactical Missiles; thirty-two (32) Sidewinder AIM-9X Block II+ (Plus) Captive Air Training Missiles (CATMs); thirty (30) AIM-9X Block II+ (Plus) Sidewinder Tactical Guidance Units; eight (8) AIM-9X Block II Sidewinder CATM Guidance Units; one hundred (100) AGM-154C-1 Joint Stand Off Weapon (JSOW-C1) Tactical Missiles; two hundred (200) Joint Air-to-Surface Standoff Missile-Extended Range (JASSM-ER) AGM-158B-2 Missiles; two (2) AGM-158B-2 JASSM-ER Separation Test Vehicles; two (2) AGM-158B-2 JASSM-ER Instrumented Test Vehicles; two (2) AGM-158B-2 JASSM-ER Jettison Test Vehicles; two (2) AGM-158B-2 Inert JASSM w/Intelligent Telemetry Instrumentation Kits; two (2) AGM-158 Dummy Air Training Missiles; one hundred twenty (120) KMU-556 JDAM Guidance Kits for GBU-31; three hundred (300) FMU-139D/B Fuzes; two (2) KMU-556(D-2)/B Trainer JDAM Guidance Kits for GBU-31; thirty (30) KMU-557 JDAM Guidance Kits for GBU-31; one hundred fifty (150) KMU-572 JDAM Guidance Kits for GBU-38/54; one hundred twenty (120) BLU-117, General Purpose Bombs; thirty-two (32) BLU-109, General Purpose Bomb; one hundred fifty (150) BLU-111, General Purpose Bomb; six (6) MK-82, Inert Bomb; one (1) FMU-139D/B (D-1) Inert Fuze. Also included were Electronic Warfare Systems; Command, Control, Communications, Computer and Intelligence/Communications, Navigational, and Identification (C4I/CNI); Autonomic Logistics Global Support System (ALGS); Operational Data Integrated Network (ODIN); Air System Training Devices; Weapons Employment Capability and other Subsystems, Features, and Capabilities; F-35 unique infrared flares; reprogramming center access; F-35 Performance Based Logistics; software development/integration; aircraft ferry and tanker support; Detector Laser DSU- 38A/B, Detector Laser DSU-38A(D-2)/B, KMU-572(D-2)/B Trainer (JDAM), 40 inch Wing Release Lanyard; GBU-53/B SDB II Weapon Load Crew Trainers (WLCT); GBU- 53/B SDB II Practical Explosive Ordnance Disposal System Trainers (PEST); AGM- 154C-1 JSOW Captive Flight Vehicles; AGM-154C-1 JSOW Dummy Air Training Missiles; AGM-154C-1 JSOW mission planning, integration support and testing, munitions storage security and training, weapon operational flight program software development; integration of the Joint Strike Missile; weapons containers; aircraft and munitions support and test equipment; communications equipment; provisioning, spares and repair parts; weapons repair and return support; personnel training and training equipment; weapon systems software, publications and technical documents; United States (U.S.) Government and contractor engineering, technical, and logistics support services; and other related elements of logistical and program support. The estimated total cost was $12.5 billion. Major Defense Equipment (MDE) constituted $8.4 billion of this total.

On March 19, 2021, Congress was notified by congressional certification transmittal number 21-0D of the possible sale, under Section 36(b)(1) of the Arms Export Control Act, of the addition of the following MDE items: fifty (50) Sidewinder AIM-9X Block II+ (Plus) tactical missiles; six hundred (600) AIM-120C-8 Advanced Medium Range Air-to-Air Missiles (AMRAAM); up to twelve (12) AMRAAM Guidance Sections (spares); one thousand five hundred (1,500) GBU-39 Small Diameter Bomb Increment 1 (SDB I) munitions; two (2) GBU-39 (T-1)/B inert practice bombs; three hundred (300) FMU-139D/B fuzes; twenty (20) KMU-557 JDAM Guidance Kits for GBU-31; two hundred seventy-five (275) KMU-572 JDAM Guidance Kits for GBU-38/54; twenty (20) BLU-109, general purpose bombs; and two hundred seventy-five (275) BLU-111, general purpose bombs. The following non-MDE items were also be included: AMRAAM Control Sections; AMRAAM Captive Air Training Missiles (CATMs); GBU-39 Tactical Training Rounds; containers; weapon system support equipment; support and test equipment; site surveys; spare and repair parts; repair and return support; publications and technical data; maintenance and aircrew training; and other related elements of logistics support. The total cost of the new MDE articles was $1.5 billion, and the total cost of the new non-MDE articles was $80 million. The total notified cost of MDE increased to $9.9 billion, and the total notified case value increased to $14.08 billion.

This transmittal notifies the inclusion of the following additional MDE items: two hundred forty (240) Air Intercept Missiles 120D-3 (AIM-120D-3) Advanced Medium Range Air-to-Air Missiles (AMRAAM); eight (8) AIM-120D-3 AMRAAM guidance sections, including precise positioning provided by either Selective Availability Anti-Spoofing Modules or M-Code; and one (1) AIM-120D AMRAAM Instrumented Test Vehicle (ITV). The following non-MDE items will also be included: weapon system support including software; KGV-135A embedded communications security (COMSEC) device; transportation and airlift support; and other related elements of logistics and program support. The estimated total cost of the new items is $625 million. The estimated total cost of the new MDE items is $578 million and does not result in a net increase in total cost of MDE. The estimated total MDE cost remains $9.9 billion. The estimated total cost of the new non-MDE items is $47 million and does not result in a net increase in total cost of non-MDE. The total non-MDE remains $4.18 billion. The total case value does not increase and remains $14.08 billion.

(iv) Significance: This notification is being provided because the additional MDE items were not enumerated in the original notification. The inclusion of this MDE represents an increase in capability over what was previously notified. The proposed sale will provide Finland with a credible defense capability to deter aggression in the region and ensure interoperability with U.S. forces.

(v) Justification: This proposed sale will support the foreign policy goals and national security objectives of the United States by improving the security of a NATO Ally that is an important force for political stability and economic progress in Europe.

(vi) Sensitivity of Technology:

The AIM-120D-series AMRAAM is a supersonic, air-launched, aerial intercept guided missile featuring digital technology and micro-miniature solid-state electronics. AMRAAM capabilities include look-down/shoot-down, multiple launches against multiple targets, resistance to electronic countermeasures, and interception of high and low-flying and maneuvering targets. The AIM-120D features a quadrangle target detection device and an electronics unit within the guidance section that performs all radar signal processing, mid-course and terminal guidance, flight control, target detection, and warhead detonation.

The ITV is a captive carry test vehicle used primarily for flight test integration. The ITV verifies and assesses the aircraft's ability to safely support an AMRAAM launch through the aircraft interface mechanism and the aircraft datalink antenna.

The KGV-135A is a high-speed general purpose encryptor and decryptor module used for wideband data encryption.

The Sensitivity of Technology Statement contained in the original notification applies to items reported here.

The highest level of classification of information included in this potential sale is SECRET.

(vii) Date Report Delivered to Congress: April 28, 2025

[FR Doc. 2026-00706 Filed 1-14-26; 8:45 am]

BILLING CODE 6001-FR-P